NUCLEAR REGULATORY COMMISSION

10 CFR Chapter I

[NRC-2020-0065]

Transfer of Very Low-Level Waste To Exempt Persons for Disposal

AGENCY: Nuclear Regulatory Commission.

ACTION: Proposed interpretive rule; reopening of comment period.

SUMMARY: On March 6, 2020, the U.S. Nuclear Regulatory Commission (NRC) solicited comments on a proposed interpretation of its low-level radioactive waste disposal regulations that would permit licensees to dispose of waste by transfer to persons who hold specific exemptions for the purpose of disposal. The public comment period was originally scheduled to close on April 20, 2020. On April 9, 2020, the public comment period was extended to July 20, 2020. In recognition of the continuing impacts of the current COVID-19 public health emergency (PHE) across the nation, the NRC has decided to reopen the public comment period to allow more time for members of the public to develop and submit their comments.

DATES: The due date of comments requested in the document published on March 6, 2020 (85 FR 13076), which was extended on April 9, 2020 (85 FR 19907), has been reopened. Comments should be filed no later than October 21, 2020. Comments received after this date will be considered if it is practical to do so, but the Commission is able to ensure consideration only for comments received before this date. Staff will continue to monitor the COVID-19 pandemic to determine if an additional extension may be warranted.

ADDRESSES: You may submit comments by any of the following methods:

• Federal Rulemaking Website: Go to https://www.regulations.gov and search for Docket ID NRC-2020-0065. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: VLLWTransferComments.Resource@nrc.gov.

For additional direction on obtaining information and submitting comments, see “Obtaining Information and Submitting Comments” in the SUPPLEMENTARY INFORMATION section of this document.

FOR FURTHER INFORMATION CONTACT: Marlayna Doell, Office of Nuclear Material Safety and Safeguards, U.S. Nuclear Regulatory Commission, Washington, DC 20555-0001; telephone: 301-415-3178; email: Marlayna.Doell@nrc.gov.

SUPPLEMENTARY INFORMATION:

I. Obtaining Information and Submitting Comments

A. Obtaining Information

Please refer to Docket ID NRC-2020-0065 when contacting the NRC about the availability of information for this action. You may obtain publicly-available information related to this action by any of the following methods:

• Federal Rulemaking Website: Go to https://www.regulations.gov and search for Docket ID NRC-2020-0065.

• NRC's Agencywide Documents Access and Management System (ADAMS): You may obtain publicly-available documents online in the ADAMS Public Document collection at https://www.nrc.gov/reading-rm/adams.html. To begin the search, select “Begin Web-based ADAMS Search.” For problems with ADAMS, please contact the NRC's Public Document Room reference staff at 1-800-397-4209, 301-415-4737, or by email to pdr.resource@nrc.gov.

B. Submitting Comments

Please include Docket ID NRC-2020-0065 in your comment submission.

The NRC cautions you not to include identifying or contact information that you do not want to be publicly disclosed in your comment submission. The NRC will post all comment submissions at https://www.regulations.gov, as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On March 6, 2020, the NRC solicited comments on a proposed interpretation of its low-level radioactive waste disposal regulations that would permit licensees to dispose of waste by transfer to persons who hold specific exemptions for the purpose of disposal. The NRC will consider approval of requests for specific exemptions for the purpose of disposal if they are for the disposal of very low-level radioactive waste (VLLW) by land burial in facilities that have been reviewed and approved for the purpose of disposal of VLLW (i.e., Resource Conservation and Recovery Act sites). Therefore, the NRC's intent is that this interpretive rule will allow licensees to transfer VLLW to exempt persons for the purpose of disposal by land burial. The public comment period was originally scheduled to close on April 20, 2020, and was previously extended to July 20, 2020. In recognition of the impacts of the current COVID-19 PHE across the nation, the NRC has decided to reopen the public comment period until October 21, 2020, to allow more time for members of the public to develop and submit their comments.

Dated: July 23, 2020.
For the Nuclear Regulatory Commission.
Patricia K. Holahan,
Director, Division of Decommissioning, Uranium Recovery, and Waste Programs, Office of Nuclear Material Safety and Safeguards.

[FR Doc. 2020-16298 Filed 7-28-20; 4:15 pm]

BILLING CODE 7590-01-P